DEPARTMENT OF THE INTERIOR

Bureau of Land Management

[LLWO320000 L13300000.PO0000]

Renewal of OMB Control Number 1004-0103

AGENCY: Bureau of Land Management, Interior.

ACTION: 60-Day Notice and Request for Comments.

SUMMARY: In accordance with the Paperwork Reduction Act of 1995, the Bureau of Land Management (BLM) is announcing its intention to request approval to continue and revise the collection of information from applicants for authorization to purchase mineral materials from public lands. The Office of Management and Budget (OMB) previously approved this information collection activity, and assigned it control number 1004-0103.

DATES: Please submit comments on the proposed information collection by May 27, 2011.

ADDRESSES: Comments may be submitted by mail, fax, or electronic mail. Mail: U.S. Department of the Interior, Bureau of Land Management, 1849 C St., NW., Washington, DC 20240. Fax: to Jean Sonneman at 202-912-7102. Electronic mail: Jean_Sonneman@blm.gov. Please indicate “Attn: 1004-0103” regardless of the form of your comments.

FOR FURTHER INFORMATION CONTACT: George Brown, Division of Solid Minerals, at 202-912-7118. Persons who use a telecommunication device for the deaf (TDD) may call the Federal Information Relay Service (FIRS) at 1-800-877-8339, to leave a message for Mr. Brown.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. 44 U.S.C. 3506 and 3507. In order to obtain or renew an OMB control number, Federal agencies are required to seek public comment on information collection and recordkeeping activities (see 5 CFR 1320.8(d) and 1320.12(a)).

The BLM will request a 3-year term of approval for this information collection. For this control number, the BLM requests comments on the following subjects: (1) Whether the collection of information is necessary for the proper functioning of the BLM, including whether the information will have practical utility; (2) The accuracy of the BLM's estimate of the burden of collecting the information, including the validity of the methodology and assumptions used; (3) The quality, utility and clarity of the information to be collected; and (4) How to minimize the information collection burden on those who are to respond, including the use of appropriate automated, electronic, mechanical, or other forms of information technology.

Please send comments as directed under ADDRESSES and DATES. Please refer to OMB control number 1004-0103 in your correspondence. Before including your address, phone number, e-mail address, or other personal identifying information in your comment, you should be aware that your entire comment—including your personal identifying information—may be made publicly available at any time. While you can ask us in your comment to withhold your personal identifying information from public review, we cannot guarantee that we will be able to do so.

The following information is provided for the information collection:

Title: Sale of Mineral Materials (43 CFR part 3600).

Forms: Form 3600-9, Contract for the Exclusive Sale of Mineral Materials.

OMB Control Number: 1004-0103.

Abstract: The Mineral Materials Act, 30 U.S.C. 601 and 602, authorizes disposals of mineral materials (such as sand, gravel, and petrified wood) from public lands. This information collection request pertains to mineral sales contracts in accordance with regulations at 43 CFR part 3600. Form 3600-9 (Contract for the Sale of Mineral Materials) is the only form currently approved by OMB under control number 1004-0103. The BLM proposes to change the title of Form 3600-9 to “Contract for the Exclusive Sale of Mineral Materials.”

Frequency of Collection: The BLM collects the information on occasion. Responses are required in order to obtain or retain a benefit.

Estimated Number and Description of Respondents: An estimated 400 businesses annually submit applications to purchase or use mineral materials from public lands.

Estimated Reporting and Recordkeeping “Hour” Burden: 2,305 responses and 9,808 hours annually. The following table details the individual components and respective hour burdens of this information collection request:

Type of response | Number of responses | Time per response | Total hours (B x C)
A | B | C | D
Pre-Application Sampling and Testing—43 CFR 3601.30 | 15 | 30 minutes | 8
Request for Sale—43 CFR 3602.11 | 400 | 30 minutes | 200
Contract for the Sale of Mineral Materials—43 CFR subpart 3602, Form 3600-9 | 400 | 1 hour | 400
Mining and Reclamation Plans (Complex)—43 CFR 3601.40 | 90 | 40 hours | 3,600
Mining and Reclamation Plans (Simple)—43 CFR 3601.40 | 200 | 2 hours | 400
Performance Bond—43 CFR 3602.14 | 400 | 1 hour | 400
Payments—43 CFR 3602.21 | 400 | 6 hours | 2,400
Records Maintenance—43 CFR 3602.28 | 400 | 6 hours | 2,400
Totals | 2,305 |  | 9,808

Other Burdens: In addition to the burdens listed above, BLM regulations at 43 CFR 3000.11, 3602.11(c), 3602.31(b), 3602.43(a), and 3602.44(f) require processing fees. This estimated annual burden is $135,716. The amount of each processing fee is determined on a case-by-case basis, and can vary widely, depending on the magnitude and nature of the application, the complexity of the mining plan proposed, the duration proposed, the location of the proposed removal area, the associated environmental effects at that location, and the BLM's related processing costs for that application, including the travel time to the site.

Jean Sonneman,
Bureau of Land Management, Information Collection Clearance Officer.

[FR Doc. 2011-7176 Filed 3-25-11; 8:45 am]

BILLING CODE 4310-84-P